DEPARTMENT OF COMMERCE

Foreign Trade Zones Board

[Order No. 1383]

Grant of Authority for Subzone Status; Callaway Golf Company (Golf Clubs), Carlsbad, California

Pursuant to its authority under the Foreign-Trade Zones Act of June 18, 1934, as amended (19 U.S.C. 81a-81u), the Foreign-Trade Zones Board (the Board) adopts the following Order:

Whereas, by an Act of Congress approved June 18, 1934, an Act “To provide for the establishment . . . of foreign-trade zones in ports of entry of the United States, to expedite and encourage foreign commerce, and for other purposes,” as amended (19 U.S.C. 81a-81u) (the FTZ Act), the Foreign-Trade Zones Board (the Board) is authorized to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, an application from the City of San Diego, California, grantee of FTZ 153, for authority to establish special-purpose subzone status for the golf club manufacturing facilities of Callaway Golf Company, in Carlsbad, California, was filed by the Board on August 27, 2004, and notice inviting public comment was given in the Federal Register (FTZ Docket 40-2004, 69 FR 53885, 9-3-2004); and,

Whereas, the Board adopts the findings and recommendations of the examiner's report, and finds that the requirements of the FTZ Act and Board's regulations would be satisfied, and that approval of the application would be in the public interest if approval were subject to restriction;

Now, therefore, the Board hereby grants authority for subzone status at the golf club manufacturing facilities of Callaway Golf Company, in Carlsbad, California (Subzone 153D), at the locations described in the application, subject to the FTZ Act and the Board's regulations, including Section 400.28, and further subject to a restriction requiring that all products, which are made of textile materials, classified within Textile Categories 331/631/831, 359/459/659/859, 363/369/669, and 670/870 must be admitted under privileged foreign status (19 CFR § 146.41) or domestic status (19 CFR § 146.43).

Signed at Washington, DC, this 15th day of April, 2005.

Joseph A. Spetrini,
Acting Assistant Secretary of Commerce for Import Administration, Alternate Chairman, Foreign-Trade Zones Board.
Attest:
Dennis Puccinelli,
Executive Secretary.

[FR Doc. 05-8425 Filed 4-26-05; 8:45 am]

BILLING CODE 3510-DS-S